DEPARTMENT OF LABOR

Mine Safety and Health Administration

[OMB Control No. 1219-0095]

Proposed Extension of Information Collection; Explosive Materials and Blasting Units (Pertains Only to Category III Metal and Nonmetal Mines Deemed To Be Gassy)

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection entitled Explosive Materials and Blasting Units (Pertains only to Category III Metal and Nonmetal Mines Deemed to be Gassy).

DATES: All comments must be received on or before January 31, 2025.

ADDRESSES: Comments concerning the information collection requirements of this notice may be sent by any of the methods listed below. Please note that late comments received after the deadline will not be considered.

• Federal E-Rulemaking Portal: https://www.regulations.gov. Follow the on-line instructions for submitting comments for docket number MSHA-2024-0034.

• Mail/Hand Delivery: DOL-MSHA, Office of Standards, Regulations, and Variances, 201 12th Street South, 4th Floor West, Arlington, VA 22202-5452. Before visiting MSHA in person, call 202-693-9455 to make an appointment.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act) as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

B. Information Collection

In order to fulfill the statutory mandates to promote miners' health and safety, MSHA requires the collection of information under the information collection request entitled Explosive Materials and Blasting Units (Pertains only to Category III Metal and Nonmetal Mines Deemed to be Gassy). The information collection is intended to determine whether nonapproved explosive materials and blasting units and procedures are safe for use in Category III mines.

All mines must use approved blasting units and explosives to ensure miner health and safety. If mine operators choose to use unapproved blasting units and explosives, they must obtain approval from MSHA before doing so. Under title 30 of the Code of Federal Regulations (30 CFR) 57.22003(a) and (a)(3), mine category III applies to all underground metal and nonmetal mines and the surface mills of Subcategory I-C mines (gilsonite) in which noncombustible ore is extracted and which liberate a concentration of methane that is explosive, or is capable of forming explosive mixtures with air, or have the potential to do so based on the history of the mine or the geological area in which the mine is located. The concentration of methane in such mines is explosive or is capable of forming explosive mixtures if mixed with air at certain composition.

1. Notifying MSHA Prior to Using Nonapproved Explosive Materials and Blasting Units

Under 30 CFR 7.4 and 15, MSHA tests and approves blasting units and explosive materials as permissible for use in mines, respectively. Under 30 CFR 57.22606(a), mine operators of Category III metal and nonmetal mines must notify the appropriate MSHA District Manager of all nonapproved explosive materials and blasting units prior to their use. Explosive materials used for blasting must be approved by MSHA under 30 CFR part 15, or nonapproved explosive materials must be evaluated and determined by the District Manager to be safe for blasting in a potentially gassy environment. The notice must also include the millisecond-delay interval between successive shots and between the first and last shot in a round.

II. Desired Focus of Comments

MSHA is soliciting comments concerning the proposed information collection entitled Explosive Materials and Blasting Units (Pertains only to Category III Metal and Nonmetal Mines Deemed to be Gassy). MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th Floor via the West elevator. Before visiting MSHA in person, call 202-693-9455 to make an appointment.

Questions about the information collection requirements may be directed to the person listed in the FOR FURTHER INFORMATION CONTACT section of this notice.

III. Current Actions

This information collection request concerns provisions for Explosive Materials and Blasting Units (Pertains only to Category III Metal and Nonmetal Mines Deemed to be Gassy). MSHA has updated the data with respect to the number of respondents, responses, time burden, and burden costs supporting this information collection request from the previous information collection request.

Type of Review: Extension, without change, of a currently approved collection.

Agency: Mine Safety and Health Administration.

OMB Number: 1219-0095.

Affected Public: Business or other for-profit.

Number of Annual Respondents: 1.

Frequency: On occasion.

Number of Annual Responses: 1.

Annual Time Burden: 1 hours.

Annual Other Burden Costs: $6.

Comments submitted in response to this notice will be summarized and included in the request for Office of Management and Budget approval of the proposed information collection request; they will become a matter of public record and be available at https://www.reginfo.gov.

Song-ae Aromie Noe,
Certifying Officer, Mine Safety and Health Administration.

[FR Doc. 2024-28164 Filed 11-29-24; 8:45 am]

BILLING CODE 4510-43-P